DEPARTMENT OF COMMERCE

National Oceanic and Atmospheric Administration

RIN 0648-XA861

Marine Mammals; File No. 16473

AGENCY: National Marine Fisheries Service (NMFS), National Oceanic and Atmospheric Administration (NOAA), Commerce.

ACTION: Notice; receipt of application.

SUMMARY: Notice is hereby given that D. Ann Pabst, Ph.D., University of North Carolina Wilmington, has applied in due form for a permit to conduct research on marine mammals.

DATES: Written, telefaxed, or email comments must be received on or before January 9, 2012.

ADDRESSES: The application and related documents are available for review by selecting “Records Open for Public Comment” from the Features box on the Applications and Permits for Protected Species (APPS) home page, http://apps.nmfs.noaa.gov, and then selecting File No. 16473 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Kristy Beard or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit would be valid for five years from the date of issuance and would authorize level B harassment of marine mammals, including five species listed as endangered. Proposed research would take place throughout the year, from Delaware Bay to Cape Canaveral, Florida out to 120 nm offshore. The primary research objectives are: (1) To document the presence of North Atlantic right and humpback whales in the mid-Atlantic and (2) To describe the distribution and abundance of all cetaceans within specific geographic regions that are currently used for U.S. Navy training activities or may be in the future. Research activities include aerial and vessel surveys to conduct counts, photo-identification, and behavioral observations. Up to 200 humpback (Megaptera novaeangliae), 100 fin (Balaenoptera physalus), 150 sperm (Physeter macrocephalus), 200 North Atlantic right whales (Eubalaena glacialis), 40 sei (B. borealis), 100 minke (B. acutorostrata), 100 dwarf and pygmy sperm (Kogia spp.), 100 unidentified beaked, 50 killer (Orcinus orca), 5,000 pilot (Globicephala spp.), 100 false killer (Pseudorca crassidens), 100 pygmy killer (Feresa attenuata), and 100 melon-headed (Peponocephala electra) whales, 8,000 bottlenose (Tursiops truncatus), 5,000 Atlantic spotted (Stenella frontalis), 2,500 Risso's (Grampus griseus), 100 Fraser's (Lagenodelphis hosei), 1,000 rough-toothed (Steno bredanensis), 100 pantropical spotted (S. attenuata), 500 striped (S. coeruleoalba), 250 clymene (S. clymene), 100 spinner (S. longirostris), and 1,000 short-beaked common dolphins (Delphinus delphis), and 100 harbor porpoise (Phocoena phocoena) would be taken annually.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: December 6, 2011.
P. Michael Payne,
Chief, Permits and Conservation Division, Office of Protected Resources, National Marine Fisheries Service.

[FR Doc. 2011-31669 Filed 12-8-11; 8:45 am]

BILLING CODE 3510-22-P